DEPARTMENT OF ENERGY

Federal Energy Regulatory Commission

[Project No. 2232-407]

Duke Energy Corporation; Notice of Meeting

September 6, 2000.

Take notice that the Commission staff will hold a pubic meeting with Duke Energy Corporation, the licensee for the Catawba-Wateree Project No. 2232, Charlotte-Mecklenburg Utilities, their consultant and other interested parties to discuss the issues concerning the preparation of the environmental assessment for the amendment of license.

The meeting will be held on Thursday, September 21, 2000, at 2 p.m., at the FERC Headquarters, 888 First Street, Washington DC, 20426. Expected participants need to give their names to Michael Spencer (FERC) at (202) 219-2846 so that they can get through security. All interested persons are invited to attend the meeting.

For further information, please contact Michael Spencer at (202) 219-2846.

David P. Boergers,
Secretary.

[FR Doc. 00-23290 Filed 9-11-00; 8:45 am]

BILLING CODE 6717-01-M